DEPARTMENT OF TRANSPORTATION

Federal Aviation Administration

14 CFR Part 39

[Docket No. 2001-SW-26-AD; Amendment 39-12947; AD 2002-23-03]

RIN 2120-AA64

Airworthiness Directives; MD Helicopters, Inc. Model MD900 Helicopters

AGENCY: Federal Aviation Administration, DOT.

ACTION: Final rule.

SUMMARY: This amendment adopts a new airworthiness directive (AD) for MD Helicopters, Inc. (MDHI) Model MD900 helicopters that requires inspecting and, if necessary, repairing the longitudinal drive link (drive link) and modifying certain nonrotating swashplate (swashplate) assemblies. This AD also requires recording compliance with the AD on a component history card or equivalent record. This amendment is prompted by reports of damage to the drive link assembly caused by the sharp inner edge of the bushing in the swashplate assembly. The actions specified by this AD are intended to prevent damage to the drive link, loss of control of the main rotor system, and subsequent loss of control of the helicopter.

DATES: Effective December 26, 2002.

The incorporation by reference of certain publications listed in the regulations is approved by the Director of the Federal Register as of December 26, 2002.

ADDRESSES: The service information referenced in this AD may be obtained from MD Helicopters, Inc., Attn: Customer Support Division, 4555 E. McDowell Rd., Mail Stop M615-GO48, Mesa, Arizona 85215-9734, telephone 1-800-388-3378, fax 480-891-6782, or on the web at www.mdhelicopters.com. This information may be examined at the FAA, Office of the Regional Counsel, Southwest Region, 2601 Meacham Blvd., Room 663, Fort Worth, Texas; or at the Office of the Federal Register, 800 North Capitol Street, NW., Suite 700, Washington, DC.

FOR FURTHER INFORMATION CONTACT: Jon Mowery, Aviation Safety Engineer, FAA, Los Angeles Aircraft Certification Office, Airframe Branch, 3960 Paramount Blvd., Lakewood, California 90712, telephone (562) 627-5322, fax (562) 627-5210.

SUPPLEMENTARY INFORMATION: A proposal to amend 14 CFR part 39 to include an AD for certain MDHI Model MD900 helicopters was published in the Federal Register on May 29, 2002 (67 FR 37356). That action proposed to require modifying each swashplate assembly, part number (P/N) 900C2010192-105, -107, and -109. That action also proposed dye-penetrant inspecting for gouging and cracking and, if necessary, repairing the drive link assembly, P/N 900C2010212-101. Recording compliance with the AD on the component history card or equivalent record was also proposed.

Interested persons have been afforded an opportunity to participate in the making of this amendment. No comments were received on the proposal or the FAA's determination of the cost to the public. The FAA has determined that air safety and the public interest require the adoption of the rule as proposed with minor changes in paragraph (b) and Note 2 to further clarify that the dye-penetrant inspection required after modifying the nonrotating swashplate is required before further flight. The dye-penetrant inspection is required whether the drive-link assembly has been dye-penetrant inspected previously. These changes will neither increase the economic burden on any operator nor increase the scope of the AD.

The FAA estimates that this AD will affect 28 helicopters of U.S. registry, that it will take approximately 2 work hours per helicopter to accomplish the required actions, and that the average labor rate is $60 per work hour. Required parts will cost approximately $1164 per helicopter. Based on these figures, the total cost impact of the AD on U.S. operators is estimated to be $35,952.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2002-23-03 MD Helicopters, Inc.: Amendment 39-12947. Docket No. 2001-SW-26-AD.

Applicability: Model MD900 helicopters, serial numbers 0008 through 0068, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (e) of this AD. The request should include an assessment of the effect of the modification, alteration, or repair on the unsafe condition addressed by this AD; and if the unsafe condition has not been eliminated, the request should include specific proposed actions to address it.

Compliance: Required as indicated.

To prevent damage to the longitudinal drive link (drive link), loss of control of the main rotor system, and subsequent loss of control of the helicopter, accomplish the following:

(a) Within 100 hours time-in-service (TIS) or 3 months, whichever occurs first, unless previously accomplished, modify the nonrotating swashplate assembly, part number (P/N) 900C2010192-105, -107, or -109, in accordance with the Accomplishment Instructions, paragraphs 2.A.(1). and 2.A.(2)., of MD Helicopters Service Bulletin SB900-078, dated April 23, 2001 (SB).

(b) After modifying the nonrotating swashplate assembly, P/N 900C2010192-105, -107 or -109, in accordance with paragraph (a) of this AD, before further flight, dye-penetrant inspect the drive link assembly, P/N 900C2010212-101, for gouging or cracking in accordance with the Accomplishment Instructions, paragraph 2.B.(1). and 2.B.(2). of the SB, except that returning cracked parts to MDHI is not required by this AD.

(1) If a crack is found, before further flight, replace the drive link assembly, P/N 900C2010212-101, with an airworthy drive link assembly.

(2) If gouging is found without a crack, before further flight, rework the drive link assembly, P/N 900C2010212-101, in accordance with the Accomplishment Instructions, paragraph 2.B.(3). of the SB.

Note 2: Even if you have previously dye-penetrant inspected the drive link assembly, you must accomplish the inspection required by paragraph (b) of this AD after modifying the swashplate assembly in accordance with paragraph (a) of this AD.

(c) Record compliance with this AD on the component history card or equivalent record for the nonrotating swashplate assembly.

(d) Accomplishing the actions required by paragraphs (a) and (b) of this AD is terminating action for the requirements of this AD.

(e) An alternative method of compliance or adjustment of the compliance time that provides an acceptable level of safety may be used if approved by the Manager, Los Angeles Aircraft Certification Office. Operators shall submit their requests through an FAA Principal Maintenance Inspector, who may concur or comment and then send it to the Manager, Los Angeles Aircraft Certification Office.

Note 3: Information concerning the existence of approved alternative methods of compliance with this AD, if any, may be obtained from the Los Angeles Aircraft Certification Office.

(f) Special flight permits may be issued in accordance with 14 CFR 21.197 and 21.199 to operate the helicopter to a location where the requirements of this AD can be accomplished.

(g) The inspection and modification shall be done in accordance with the Accomplishment Instructions, paragraphs 2.A.(1)., 2.A.(2)., 2.B.(1)., 2.B.(2)., and 2.B.(3). of MD Helicopters Service Bulletin SB900-078, dated April 23, 2001 (SB). This incorporation by reference was approved by the Director of the Federal Register in accordance with 5 U.S.C. 552(a) and 1 CFR part 51. Copies may be obtained from MD Helicopters, Inc., Attn: Customer Support Division, 4555 E. McDowell Rd., Mail Stop M615-GO48, Mesa, Arizona 85215-9734, telephone 1-800-388-3378, fax 480-891-6782, or on the web at www.mdhelicopters.com. Copies may be inspected at the FAA, Office of the Regional Counsel, Southwest Region, 2601 Meacham Blvd., Room 663, Fort Worth, Texas; or at the Office of the Federal Register, 800 North Capitol Street, NW., Suite 700, Washington, DC.

(h) This amendment becomes effective on December 26, 2002.

Issued in Fort Worth, Texas, on November 6, 2002.
David A. Downey,
Manager, Rotorcraft Directorate, Aircraft Certification Service.

[FR Doc. 02-29156 Filed 11-19-02; 8:45 am]

BILLING CODE 4910-13-P